DEPARTMENT OF COMMERCE

International Trade Administration

[A-588-045; A-580-811; A-201-806]

Revocation of Antidumping Duty Orders: Certain Steel Wire Rope From Japan, Korea, and Mexico

AGENCY: Import Administration, International Trade Administration, Department of Commerce.

ACTION: Notice of Revocation of Antidumping Duty Orders: Certain Steel Wire Rope from Japan, Korea, and Mexico.

SUMMARY: Pursuant to section 751(c) of the Tariff Act of 1930, as amended (“the Act”), the United States International Trade Commission (“the Commission”) determined that revocation of the antidumping duty orders on certain steel wire rope from Japan, Korea, and Mexico is not likely to lead to continuation or recurrence of material injury to an industry in the United States within a reasonably foreseeable time (65 FR 136 (January 3, 2000)). Therefore, pursuant to section 751(d)(2) of the Act and 19 CFR 351.222(i)(1), the Department of Commerce (“the Department”) is revoking the antidumping duty orders on certain steel wire rope from Japan, Korea, and Mexico. Pursuant to section 751(c)(6)(A)(iv) of the Act and 19 CFR 351.222(i)(2) the effective date of revocation is January 1, 2000.

FOR FURTHER INFORMATION CONTACT: Martha V. Douthit or Melissa G. Skinner, Office of Policy for Import Administration, International Trade Administration, U.S. Department of Commerce, 14th Street and Constitution Ave., NW, Washington, D.C. 20230; telephone: (202) 482-5050 or (202) 482-1560, respectively.

EFFECTIVE DATE: January 1, 2000.

Background

On January 4, 1999, the Department initiated, and the Commission instituted, sunset reviews (64 FR 364 and 64 FR 367, respectively) of the antidumping duty orders on certain steel wire rope from Japan, Korea, and Mexico pursuant to section 751(c) of the Act. As a result of the reviews, the Department found that revocation of the antidumping duty orders would likely lead to continuation or recurrence of dumping and notified the Commission of the magnitude of the margin likely to prevail were the orders to be revoked (see Final Results of Expedited Sunset Review: Certain Steel Wire Rope from Japan, 64 FR 35626 (July 1, 1999), Final Results of Expedited Sunset Review: Steel Wire Rope From the Republic of Korea, 64 FR 43166 (August 9, 1999), and Final Results of Expedited Sunset Review: Carbon Steel Wire Rope From Mexico, 64 FR 42905 (August 6, 1999)).

On January 3, 2000, the Commission determined, pursuant to section 751(c) of the Act, that revocation of the antidumping duty orders on certain steel wire rope from Japan, Korea, and Mexico would not likely lead to continuation or recurrence of material injury to an industry in the United States within a reasonably foreseeable time (see Certain Steel Wire Rope From Japan, Korea, and Mexico, 65 FR 136 (January 3, 2000), and USITC Pub. 3259, Inv. Nos. AA 1921-124 and 731-TA-546 547 (Reviews) (December 1999)).

Scope

Japan

Imports covered by this antidumping duty order are shipments of steel wire rope, except brass electroplated steel truck tire cord of cable construction specifically packaged for protection against moisture and atmosphere. Such merchandise is currently classifiable under Harmonized Tariff Schedule (HTS) item numbers 7312.109030, 7312.109060, and 7312.109090.

Korea

The product covered by this antidumping duty order is steel wire rope. Steel wire rope encompasses ropes, cables, and cordage of iron or carbon steel, other than stranded wire, not fitted with fittings or made up into articles, and not made up of brass-plated wire. Imports of these products are currently classifiable under the following HTS subheadings: 7312.10.9030, 7312.10.9060, and 7312.10.9090. Excluded from this order is stainless steel wire rope, i.e., ropes, cables and cordage other than stranded wire, of stainless steel, not fitted with fittings or made up into articles, which is classifiable under HTS subheading 7312.10.6000. The Department notes that scope clarification rulings are pending with regard to Korea.

Mexico

Imports covered by this antidumping duty order are shipments of steel wire rope. Steel wire rope encompasses ropes, cables, and cordage of iron or carbon steel other than stranded wire, not fitted with fittings or made up into articles, and not made up of brass plated wire. Excluded from this order is stainless steel wire rope, i.e., ropes cables and cordage other than stranded wire, of stainless steel, not fitted with fittings or made up into articles, which is classifiable under the HTS subheading 7312.10.6000. Imports of these products are currently classifiable under the following HTS subheadings: 7312.10.9030, 7312.10.9060 and 7312.10.9090.

Although HTS subheadings are provided for convenience and customs purposes, the written description of the scope of these orders is dispositive.

Determination

As a result of the determination by the Commission that revocation of these antidumping duty orders is not likely to lead to continuation or recurrence of material injury to an industry in the United States, the Department, pursuant to section 751(d)(2) of the Act and 19 CFR 351.222(i)(1), is revoking the antidumping duty orders on certain steel wire rope from Japan, Korea, and Mexico. Pursuant to section 751(c)(6)(A)(iv) of the Act and 19 CFR 351.222(i)(2)(ii), these revocations are effective January 1, 2000. The Department will instruct the U.S. Customs Service to discontinue the suspension of liquidation and collection of cash deposits rates on entries of the subject merchandise entered or withdrawn from warehouse on or after January 1, 2000 (the effective date). The Department will complete any pending administrative reviews of these orders and will conduct administrative reviews of subject merchandise entered prior to the effective date of revocation in response to appropriately filed requests for review.

Dated: January 12, 2000.
Robert S. LaRussa,
Assistant Secretary for Import Administration.

[FR Doc. 00-1259 Filed 1-19-00; 8:45 am]

BILLIING CODE 3510-DS-P